OFFICE OF THE UNITED STATES TRADE REPRESENTATIVE

Procurement Thresholds for Implementation of the Trade Agreements Act of 1979

AGENCY: Office of the United States Trade Representative.

ACTION: Notice.

SUMMARY: The U.S. Trade Representative has determined the U.S. dollar procurement thresholds to implement certain U.S. trade agreement obligations, as of January 1, 2022, for calendar years 2022 and 2023.

DATES: This notice is applicable on January 1, 2022, for calendar years 2022 and 2023.

FOR FURTHER INFORMATION CONTACT: Kate Psillos, Director of International Procurement Policy at (202) 395-9581 or Kathryn.W.Psillos@ustr.eop.gov.

SUPPLEMENTARY INFORMATION: Executive Order 12260 requires the U.S. Trade Representative to set the U.S. dollar thresholds for application of Title III of the Trade Agreements Act of 1979, as amended (19 U.S.C. 2511 et seq.). These obligations apply to covered procurements valued at or above specified U.S. dollar thresholds. In conformity with the provisions of Executive Order 12260, and in order to carry out U.S. trade agreement obligations, the U.S. Trade Representative has determined the U.S. dollar procurement thresholds, effective on January 1, 2022, for calendar years 2022 and 2023 as follows:

I. World Trade Organization (WTO) Agreement on Government Procurement

A. Central Government Entities listed in U.S. Annex 1:

(1) Procurement of goods and services—$183,000; and

(2) Procurement of construction services—$7,032,000.

B. Sub-Central Government Entities listed in U.S. Annex 2:

(1) Procurement of goods and services—$499,000; and

(2) Procurement of construction services—$7,032,000.

C. Other Entities listed in U.S. Annex 3:

(1) Procurement of goods and services—$563,000; and

(2) Procurement of construction services—$7,032,000.

II. Chapter 15 of the United States-Australia Free Trade Agreement

A. Central Government Entities listed in the U.S. Schedule to Annex 15-A, Section 1:

(1) Procurement of goods and services—$92,319; and

(2) Procurement of construction services—$7,032,000.

B. Sub-Central Government Entities listed in the U.S. Schedule to Annex 15-A, Section 2:

(1) Procurement of goods and services—$499,000; and

(2) Procurement of construction services—$7,032,000.

C. Other Entities listed in the U.S. Schedule to Annex 15-A, Section 3:

(1) Procurement of goods and services for List A Entities—$461,594;

(2) Procurement of goods and services for List B Entities—$563,000;

(3) Procurement of construction services—$7,032,000.

III. Chapter 9 of the United States-Bahrain Free Trade Agreement

A. Central Government Entities listed in the U.S. Schedule to Annex 9-A-1:

(1) Procurement of goods and services—$183,000; and

(2) Procurement of construction services—$12,001,460.

B. Other Entities listed in the U.S. Schedule to Annex 9-A-2:

(1) Procurement of goods and services for List B entities—$563,000; and

(2) Procurement of construction services—$14,771,718.

IV. Chapter 9 of the United States-Chile Free Trade Agreement

A. Central Government Entities listed in the U.S. Schedule to Annex 9.1, Section A:

(1) Procurement of goods and services—$92,319; and

(2) Procurement of construction services—$7,032,000.

B. Sub-Central Government Entities listed in the U.S. Schedule to Annex 9.1, Section B:

(1) Procurement of goods and services—$499,000; and

(2) Procurement of construction services—$7,032,000.

C. Other Entities listed in the U.S. Schedule to Annex 9.1, Section C:

(1) Procurement of goods and services for List A Entities—$461,594;

(2) Procurement of goods and services for List B Entities—$563,000;

(3) Procurement of construction services—$7,032,000.

V. Chapter 9 of the United States-Colombia Trade Promotion Agreement

A. Central Government Entities listed in the U.S. Schedule to Annex 9.1, Section A:

(1) Procurement of goods and services—$92,319; and

(2) Procurement of construction services—$7,032,000.

B. Sub-Central Government Entities listed in the U.S. Schedule to Annex 9.1, Section B:

(1) Procurement of goods and services—$499,000; and

(2) Procurement of construction services—$7,032,000.

C. Other Entities listed in the U.S. Schedule to Annex 9.1, Section C:

(1) Procurement of goods and services for List B Entities—$563,000;

(2) Procurement of construction services—$7,032,000.

VI. Chapter 9 of the Dominican Republic-Central American-United States Free Trade Agreement

A. Central Government Entities listed in the U.S. Schedule to Annex 9.1.2(b)(i), Section A:

(1) Procurement of goods and services—$92,319; and

(2) Procurement of construction services—$7,032,000.

B. Sub-Central Government Entities listed in the U.S. Schedule to Annex 9.1.2(b)(i), Section B:

(1) Procurement of goods and services—$499,000; and

(2) Procurement of construction services—$7,032,000.

C. Other Entities listed in the U.S. Schedule to Annex 9.1.2(b)(i), Section C:

(1) Procurement of goods and services for List B Entities—$563,000;

(2) Procurement of construction services—$7,032,000.

VII. Chapter 17 of the United States-Korea Free Trade Agreement

A. Central Government Entities listed in the U.S. Schedule to Annex 17-A, Section A:

(1) Procurement of construction services—$7,032,000.

VIII. Chapter 9 of the United States-Morocco Free Trade Agreement

A. Central Government Entities listed in the U.S. Schedule to Annex 9-A-1:

(1) Procurement of goods and services—$183,000; and

(2) Procurement of construction services—$7,032,000.

B. Sub-Central Government Entities listed in the U.S. Schedule to Annex 9-A-2:

(1) Procurement of goods and services—$499,000; and

(2) Procurement of construction services—$7,032,000.

C. Other Entities listed in the U.S. Schedule to Annex 9-A-3:

(1) Procurement of goods and services for List B Entities—$563,000;

(2) Procurement of construction services—$7,032,000.

IX. Chapter 9 of the United States-Oman Free Trade Agreement

A. Central Level Government Entities listed in the U.S. Schedule to Annex 9, Section A:

(1) Procurement of goods and services—$183,000; and

(2) Procurement of construction services—$12,001,460.

B. Other Covered Entities listed in the U.S. Schedule to Annex 9, Section B:

(1) Procurement of goods and services for List B Entities—$563,000;

(2) Procurement of construction services—$14,771,718.

X. Chapter 9 of the United States-Panama Trade Promotion Agreement

A. Central Government Entities listed in the U.S. Schedule to Annex 9.1, Section A:

(1) Procurement of goods and services—$183,000; and

(2) Procurement of construction services—$7,032,000.

B. Sub-Central Government Entities listed in the U.S. Schedule to Annex 9.1, Section B:

(1) Procurement of goods and services—$499,000; and

(2) Procurement of construction services—$7,032,000.

C. Other Entities listed in the U.S. Schedule to Annex 9.1, Section C:

(1) Procurement of goods and services for List B Entities—$563,000;

(2) Procurement of construction services—$7,032,000.

D. Autoridad del Canal de Panamá

(1) Procurement of goods and services—$563,000.

XI. Chapter 9 of the United States-Peru Trade Promotion Agreement

A. Central Government Entities listed in the U.S. Schedule to Annex 9.1, Section A:

(1) Procurement of goods and services—$183,000; and

(2) Procurement of construction services—$7,032,000.

B. Sub-Central Government Entities listed in the U.S. Schedule to Annex 9.1, Section B:

(1) Procurement of goods and services—$499,000; and

(2) Procurement of construction services—$7,032,000.

C. Other Entities listed in the U.S. Schedule to Annex 9.1, Section C:

(1) Procurement of goods and services for List B Entities—$563,000;

(2) Procurement of construction services—$7,032,000.

XII. Chapter 13 of the United States-Singapore Free Trade Agreement

A. Central Government Entities listed in the U.S. Schedule to Annex 13A, Schedule 1, Section A:

(1) Procurement of goods and services—$92,319; and

(2) Procurement of construction services—$7,032,000.

B. Sub-Central Government Entities listed in the U.S. Schedule to Annex 13A, Schedule 1, Section B:

(1) Procurement of goods and services—$499,000; and

(2) Procurement of construction services—$7,032,000.

C. Other Entities listed in the U.S. Schedule to Annex 13A, Schedule 1, Section C:

(1) Procurement of goods and services—$563,000;

(2) Procurement of construction services—$7,032,000.

XIII. Chapter 13 of the United States-Mexico-Canada Agreement (USMCA)*

A. Central Government Entities listed in the U.S. Schedule to Annex 13-A, Section A:

(1) Procurement of goods and services—$92,319; and

(2) Procurement of construction services—$12,001,460.

B. Other Entities listed in the U.S. Schedule to Annex 13-A, Section B:

(1) Procurement of goods and services—$461,594; and

(2) Procurement of construction services—$14,771,718.

* Procurement obligations in the USMCA are between the United States and Mexico only.

Greta Peisch,
General Counsel, Office of the United States Trade Representative.

[FR Doc. 2021-25821 Filed 11-24-21; 8:45 am]

BILLING CODE 3290-F2-P